DEPARTMENT OF ENERGY

Federal Energy Regulatory Commission

Notice of Staff Attendance at Southwest Power Pool Regional State Committee Meeting and Southwest Power Pool Board of Directors Meeting

April 9, 2010.

The Federal Energy Regulatory Commission hereby gives notice that members of its staff may attend the meetings of the Southwest Power Pool, Inc. (SPP) Regional State Committee, and SPP Board of Directors, as noted below. Their attendance is part of the Commission's ongoing outreach efforts.

SPP Regional State Committee Meeting

April 26, 2010 (1 p.m.-5 p.m.), Skirvin Hilton Hotel, 1 Park Avenue, Oklahoma City, OK 73102, 405-272-3040.

SPP Board of Directors Meeting

April 27, 2010 (8 a.m.-3 p.m.), Skirvin Hilton Hotel, 1 Park Avenue Oklahoma City, OK 73102, 405-272-3040.

The discussions may address matters at issue in the following proceedings:

Docket No. EL09-40, Southwest Power Pool, Inc.

Docket No. ER06-451, Southwest Power Pool, Inc.

Docket No. ER08-923, Xcel Energy Services, Inc.

Docket No. ER08-1307, Southwest Power Pool, Inc.

Docket No. ER08-1308, Southwest Power Pool, Inc.

Docket No. ER08-1357, Southwest Power Pool, Inc.

Docket No. ER08-1358, Southwest Power Pool, Inc.

Docket No. ER08-1359, Southwest Power Pool, Inc.

Docket No. ER08-1419, Southwest Power Pool, Inc.

Docket No. ER09-35, Tallgrass Transmission LLC.

Docket No. ER09-36, Prairie Wind Transmission LLC.

Docket No. ER09-659, Southwest Power Pool, Inc.

Docket No. ER09-1050, Southwest Power Pool, Inc.

Docket No. ER09-1254, Southwest Power Pool, Inc.

Docket No. ER09-1255, Southwest Power Pool, Inc.

Docket No. ER09-1397, Southwest Power Pool, Inc.

Docket No. ER09-1716, Southwest Power Pool, Inc.

Docket No. ER10-352, Southwest Power Pool, Inc.

Docket No. OA08-5, Southwest Power Pool, Inc.

Docket No. OA08-60, Southwest Power Pool, Inc.

Docket No. OA08-61, Southwest Power Pool, Inc.

Docket No. OA08-104, Southwest Power Pool, Inc.

Docket No. ER10-664, Southwest Power Pool, Inc.

Docket No. ER10-678, Southwest Power Pool, Inc.

Docket No. ER10-680, Southwest Power Pool, Inc.

Docket No. ER10-681, Southwest Power Pool, Inc.

Docket No. ER10-692, Southwest Power Pool, Inc.

Docket No. ER10-693, Southwest Power Pool, Inc.

Docket No. ER10-694, Southwest Power Pool, Inc.

Docket No. ER10-696, Southwest Power Pool, Inc.

Docket No. ER10-697, Southwest Power Pool, Inc.

Docket No. ER10-698, Southwest Power Pool, Inc.

Docket No. ER10-700, Southwest Power Pool, Inc.

Docket No. ER10-738, Southwest Power Pool, Inc.

Docket No. ER10-739, Southwest Power Pool, Inc.

Docket No. ER10-754, Southwest Power Pool, Inc.

Docket No. ER10-760, Southwest Power Pool, Inc.

Docket No. ER10-761, Southwest Power Pool, Inc.

Docket No. ER10-762, Southwest Power Pool, Inc.

Docket No. ER10-773, Southwest Power Pool, Inc.

Docket No. ER10-795, Southwest Power Pool, Inc.

Docket No. ER10-798, Southwest Power Pool, Inc.

Docket No. ER10-813, Southwest Power Pool, Inc.

Docket No. ER10-824, Southwest Power Pool, Inc.

Docket No. ER10-830, Southwest Power Pool, Inc.

Docket No. ER10-831, Southwest Power Pool, Inc.

Docket No. ER10-833, Southwest Power Pool, Inc.

Docket No. ER10-888, Southwest Power Pool, Inc.

Docket No. ER10-897, Southwest Power Pool, Inc.

Docket No. ER10-925, Southwest Power Pool, Inc.

Docket No. ER10-941, Southwest Power Pool, Inc.

These meetings are open to the public.

For more information, contact John Rogers, Office of Energy Market Regulation, Federal Energy Regulatory Commission at (202) 502-8564 or john.rogers@ferc.gov.

Kimberly D. Bose,
Secretary.

[FR Doc. 2010-8703 Filed 4-15-10; 8:45 am]

BILLING CODE 6717-01-P